DEPARTMENT OF HEALTH AND HUMAN SERVICES

National Committee on Vital and Health Statistics: Conference Call

Pursuant to the Federal Advisory Committee Act, the Department of Health and Human Services (HHS) announces the following advisory committee conference call.

Name: National Committee on Vital and Health Statistics (NCVHS), Ad Hoc Workgroup on Secondary Uses of Health Data.

Time and Date: October 31, 2007, 2 p.m.-5 p.m. EST.

Place: Conference Call, Toll Free—1-888-324-2603, Leader's Name—Cynthia Sidney, Pass code—NCVHS. For security reasons, the pass code above and the leader's name will be required to join the call.

Status: Open.

Purpose: The purpose of the conference call is to provide an opportunity for public comment on a “pre-decisional draft” of the NCVHS report: Enhanced Protections for Uses of Health Data: A Framework for “Secondary Uses” of Electronically Collected and Transmitted Health Data. The draft report may be found at http://www.ncvhs.hhs.gov/.

Contact Person For More Information: Substantive program information as well as summaries of meetings and a roster of committee members may be obtained from Debbie M. Jackson, Senior Program Analyst, National Center for Health Statistics, Centers for Disease Control and Prevention, 3311 Toledo Road, Room 2339, Hyattsville, MD 20782, (301) 458-4614, djackson@cdc.gov; or Marjorie S. Greenberg, Executive Secretary, NCVHS, National Center for Health Statistics, Centers for Disease Control and Prevention, 3311 Toledo Road, Room 2402, Hyattsville, Maryland 20782, telephone (301) 458-4245. Information also is available on the NCVHS home page of the HHS Web site http://www.ncvhs.hhs.gov/.

Should you require reasonable accommodation, please contact the CDC Office of Equal Employment Opportunity on (301) 458-4EEO (4336) as soon as possible.

Dated: October 22, 2007.
James Scanlon,
Deputy Assistant Secretary for Science and Data Policy, Office of the Assistant Secretary for Planning and Evaluation.

[FR Doc. 07-5434 Filed 10-31-07; 8:45 am]

BILLING CODE 4151-04-M